DEPARTMENT OF HOMELAND SECURITY

Coast Guard

46 CFR Parts 160, 180, and 199

[Docket No. USCG-2010-0048]

RIN 1625-AB46

Lifesaving Equipment: Production Testing and Harmonization With International Standards

Correction

In rule document 2011-25035, appearing on pages 62962-63015 in the issue of Monday, October 11, 2011, make the following corrections:

§ 160.051-1 [Corrected]

1. On page 62975, in the second column, in § 160.051-1(b), in the fifth through seventh lines, “[INSERT DATE 30 DAYS AFTER DATE OF PUBLICATION OF INTERIM RULE]” should read “November 10, 2011”.

§ 160.151-1 [Corrected]

2. On page 62996, in the second column, in § 160.151-1, in the sixth through eighth lines, “[INSERT DATE 30 DAYS AFTER DATE OF PUBLICATION OF INTERIM RULE]” should read “November 10, 2011”.

§ 180.150 [Corrected]

3. On page 63015, in the third column, in § 180.150(c)(2), in the second through fourth lines, “[INSERT DATE 30 DAYS AFTER DATE OF PUBLICATION OF INTERIM RULE]” should read “November 10, 2011”.

§ 199.150 [Corrected]

4. On page 63015, in the third column, in § 199.150(a)(2)(ii), in the second through fourth lines, “[INSERT DATE 30 DAYS AFTER DATE OF PUBLICATION OF INTERIM RULE]” should read “November 10, 2011”.

[FR Doc. C1-2011-25035 Filed 11-9-11; 8:45 am]

BILLING CODE 1505-01-D